DEPARTMENT OF HEALTH AND HUMAN SERVICES

[Document Identifier: OS 4040-0012]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before June 13, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sagal Musa, sagal.musa@hhs.gov, or call (202) 578-5441. When submitting comments or requesting information, please include the document identifier 4040-0012-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collections: SF-270 Request for Advance or Reimbursement.

Type of Collection: Reinstatement.

OMB No. 4040-0012.

Abstract: The SF-270 Request for Advance or Reimbursement is a federal form used by grant awardees to request funds either in advance or as reimbursement for project expenses. This IC expired on January 31, 2025. Grants.gov is seeking reinstatement without change of this information collection and a three-year clearance.

Annualized Burden Hour Table
Forms (if necessary) | Respondents (if necessary) | Number of respondents | Number of responses per respondents | Average burden per response | Total burden hours
SF-270 Request for Advance or Reimbursement | Grant Applicants | 100,000 | 1 | 1 | 100,000
Total |  | 100,000 | 1 | 1 | 100,000

Susan R. Little,
Department Information Collection Clearance Officer, Paperwork Reduction Act Program, Department of Health and Human Services.

[FR Doc. 2025-08418 Filed 5-13-25; 8:45 am]

BILLING CODE 4151-AE-P